DEPARTMENT OF DEFENSE

Department of the Army

Record of Decision for the Proposed Heavy Off-Road Mounted Maneuver Training Area at Fort Benning, Georgia

AGENCY: Department of the Army, Department of Defense.

ACTION: Notice of availability (NOA).

SUMMARY: The Department of the Army (Army) announces the availability of its Record of Decision (ROD) for the proposed Heavy Off-Road Mounted Maneuver Training Area (HOMMTA) at Fort Benning, Georgia. In accordance with the National Environmental Policy Act (NEPA), the ROD identifies the Army's Selected Alternative (and basis for its selection), the Environmentally Preferred Alternative, and the mitigation measures the Army commits to implement with the Selected Alternative. The ROD is based on the results of the Army's Final Environmental Impact Statement (EIS) that analyzed the potential environmental and socioeconomic impacts associated with constructing, operating, and maintaining a HOMMTA of at least 2,400 contiguous acres at Fort Benning to support off-road mounted maneuver (Proposed Action).

FOR FURTHER INFORMATION CONTACT: Please contact Mr. John Brown, Fort Benning Environmental Management Division, at john.e.brown12.civ@mail.mil or (706) 545-7549 between 9 a.m. and 4 p.m. ET. Fort Benning has also established a web page that contains information updates and background on the HOMMTA Final EIS and ROD, including the materials identified in this NOA, at https://www.benning.army.mil/Garrison/DPW/EMD/HOMMTA/.

SUPPLEMENTARY INFORMATION: The Proposed Action will support the Maneuver Center of Excellence (MCoE) in its mission to train maneuver soldiers and leaders of the Army and would increase the total amount of heavy off-road maneuver training area on Fort Benning, enabling the Army to conduct realistic training in accordance with current Army training requirements.

The Proposed Action will provide a training area to meet existing training needs; it will not result in additional soldiers, traffic, or any training off of the Installation. Training land development will occur over a 2- to 3-year period; development will primarily include vegetation removal and the construction of tank trails, culverted water crossings, and road upgrades, as well as burying existing overhead utilities. As feasible, buffers will be used to protect environmentally sensitive resources such as streams, wetlands, cemeteries, and archaeological sites.

Fort Benning serves a critical role in supporting the Army's overarching mission. Fort Benning's institutional training provides Army leaders with the opportunity to respond to a wide variety of situations that they can expect to encounter on the modern battlefield. Fort Benning must be able to train and develop highly skilled and cohesive units capable of conducting operations across the full spectrum of potential conflicts. Inherent in and vital to training Infantry and Armor soldiers and leaders properly is the requirement to provide sufficient heavy off-road mounted maneuver training area.

Currently, the only training area at Fort Benning suitable for heavy off-road mounted maneuver training is the Good Hope Maneuver Training Area (GHMTA), which contains various environmental constraints that cannot support the maneuver training requirements of the MCoE. As such, Fort Benning proposed to construct a new HOMMTA with sufficient contiguous area to enable all units and courses to complete required cross-domain movement and maneuver training.

The Final EIS, published on February 26, 2021 and supported by other studies, analyses, and permit applications to meet Federal requirements (e.g., the Endangered Species Act and Clean Water Act), analyzed the potential environmental and socioeconomic impacts associated with the Proposed Action, including direct, indirect, and cumulative effects. The Final EIS responded to comments received on the Draft EIS. The Final EIS also identified mitigation measures that the Army may implement to reduce potential adverse impacts.

The Army studied three reasonable Action Alternatives (i.e., three distinct locations on Fort Benning where a HOMMTA could be constructed) that would meet the purpose of and need for the Proposed Action:

Alternative 1 (Preferred Alternative): Northern Mounted Maneuver Training Area Alternative: This alternative includes approximately 4,724 acres and is located adjacent to and east of the current Northern Maneuver Training Area and west of and near Fort Benning's Digital Multi-Purpose Range Complex (DMPRC).

Of the Action Alternatives, Alternative 1 would provide the most preferable size and configuration to enable high-quality heavy off-road mounted maneuver training. Accordingly, the Army identified Alternative 1 as the Preferred Alternative to implement the Proposed Action in the Draft and Final EIS.

Alternative 2: Red Diamond Alternative: This alternative includes approximately 3,744 acres and is located south of the Southern Maneuver Training Area (SMTA) near the Installation's southern boundary.

Alternative 3: Eastern Boundary Alternative: This alternative includes approximately 2,405 acres and is located between the northern dudded impact area and the Installation's eastern boundary.

The Army also analyzed the No Action Alternative in detail. While the No Action Alternative would not satisfy the purpose of or need for the Proposed Action, it was retained to provide a comparative baseline against which to analyze the effects of the Action Alternatives as required under the Council on Environmental Quality's NEPA Regulations.

During formal consultation with the US Fish and Wildlife Service, the Army determined that potential moderate adverse impacts on the federally listed red-cockaded woodpecker (RCW) would occur primarily from removal of clusters and habitat during HOMMTA construction, resulting in up to 11 “incidental takes.” The HOMMTA Biological Opinion, however, reached the conclusion that the Army can reduce those potential adverse impacts through mitigation, and implementation of the HOMMTA with Alternative 1 would not jeopardize recovery of the RCW.

Potential impacts to Unique Ecological Areas, a subcomponent of biological resources, may be significant if they cannot be fully avoided with implementation of Alternative 1. No other resource is anticipated to experience significant adverse impacts.

Based on the analysis presented in the Final EIS, the No Action Alternative is the Environmentally Preferred Alternative. Of the Action Alternatives, Alternative 2 is the Environmentally Preferred Alternative. Considering potential environmental and socioeconomic impacts, national defense needs, Fort Benning's mission requirements, and the purpose of and need for the Proposed Action, however, the Army has selected Alternative 1 (i.e., the Army's Preferred Alternative) to implement the Proposed Action. The Army determined that Alternative 1 strikes a proper balance between providing environmental protection and achieving the Army's training requirements.

The Army received several comments during the Final EIS waiting period. The Army took these comments into account in making its decision; however, the comments do not present information that constitutes significant new circumstances or information relevant to environmental concerns that would require supplementation of the EIS.

The ROD formally adopts numerous mitigation measures that the Army will implement to reduce potential adverse environmental impacts under Alternative 1. All practicable means to avoid or minimize environmental harm from the Selected Alternative have been adopted. Mitigation measures that the Army considered but does not adopt at this time are listed in the Draft Mitigation and Monitoring Plan in the Final EIS with explanations of why those mitigation measures were considered not practical or necessary.

An electronic copy of the ROD is posted on the HOMMTA EIS web page at https://www.benning.army.mil/Garrison/DPW/EMD/HOMMTA. Additionally, interested parties may contact Mr. John Brown (see FOR FURTHER INFORMATION CONTACT) to request a printed copy.

Publication of the ROD formally concludes the NEPA planning process for this Proposed Action, acknowledging that the Army will implement the adopted mitigation measures as identified in the ROD. The Army will implement Alternative 1, including all mitigation measures identified in the ROD, as described in the Final EIS.

James W. Satterwhite, Jr.,
Army Federal Register Liaison Officer.

[FR Doc. 2021-18465 Filed 8-26-21; 8:45 am]

BILLING CODE 5061-AP-P